DEPARTMENT OF THE INTERIOR

Bureau of Ocean Energy Management

[Docket No. BOEM-2016-0049]

Environmental Assessment for Commercial Wind Leasing and Site Assessment Activities on the Outer Continental Shelf (OCS) Offshore the Island of Oahu, Hawaii; MMAA104000

AGENCY: Bureau of Ocean Energy Management (BOEM), Interior.

ACTION: Notice of Intent to prepare an Environmental Assessment.

SUMMARY: BOEM is announcing its intent to prepare an Environmental Assessment (EA) of potential commercial wind leasing and site assessment activities on the OCS offshore the island of Oahu, Hawaii. The EA will address environmental impacts and socioeconomic effects related to the proposed action, issuance of one or more commercial wind energy leases and approval of site assessment activities on those leases. This notice serves to announce the beginning of the formal scoping process. Scoping will help identify reasonable alternatives to the proposed action, focus the analysis in the EA on potentially significant issues, and eliminate those issues that are determined to be insignificant or considered irrelevant to the analysis. BOEM will also use the scoping process to seek public comment on the full range of potential environmental impacts, including input relevant to the National Historic Preservation Act (NHPA). Additional information on the proposed action may be found at http://www.boem.gov/Hawaii/.

DATES: Comments should be submitted no later than August 8, 2016.

FOR FURTHER INFORMATION CONTACT: Mark Eckenrode, Bureau of Ocean Energy Management, Pacific OCS Region, 760 Paseo Camarillo, Suite 102, Camarillo, California 93010, (805) 384-6388, or mark.eckenrode@boem.gov.

SUPPLEMENTARY INFORMATION:

1. Proposed Action

The proposed action that will be the subject of the EA consists of (a) the issuance of a wind energy lease or leases within some or all of the Call Area (see below) offshore the island of Oahu; and (b) the approval of site assessment activities (including the installation and operation of a meteorological tower and/or one or more meteorological buoys) on the lease or leases. BOEM will also consider the environmental impacts associated with potential site characterization activities—including geophysical, geotechnical, archaeological, and biological surveys—that a lessee may undertake to fulfill the information requirements for its Site Assessment Plan and Construction and Operation Plan at 30 CFR 585.610 and .626 respectively.

2. Description of the Call Area

A detailed description of the Call Area can be found in the Commercial Leasing for Wind Power on the Outer Continental Shelf Offshore the Island of Oahu, Hawaii—Call for Information and Nominations that is being published concurrently with this notice. A map of the Call Area can be found at: http://www.boem.gov/Hawaii/.

3. National Historic Preservation Act

BOEM will use the National Environmental Policy Act (NEPA) process to inform its Section 106 consultation pursuant to the NHPA (54 U.S.C. 300101 et seq.), as provided for in 36 CFR 800.2(d)(3). BOEM will consider the potential effects of wind energy development on historic properties early in the planning process. BOEM is seeking public comment and input regarding the identification of historic properties or potential impacts to historic properties located in nearshore and coastal areas adjacent to the Call Area from the proposed action.

4. Cooperating Agencies

BOEM invites other Federal, State, and local governments to consider becoming cooperating agencies in the preparation of this EA. CEQ regulations implementing the procedural provisions of NEPA define cooperating agencies as those with “jurisdiction by law or special expertise” (40 CFR 1508.5). Potential cooperating agencies should consider their authority and capacity to assume the responsibilities of a cooperating agency and remember that an agency's role in the environmental analysis neither enlarges nor diminishes the final decision-making authority of any agency involved in the NEPA process.

BOEM, as the lead agency, will not provide financial assistance to cooperating agencies. Even if an organization is not a cooperating agency, opportunities will exist to provide information and comments to BOEM during the normal public input phases of the NEPA process.

5. Public Scoping Meetings

BOEM will hold public meetings on Oahu. The specific dates, times, and locations of the scoping meetings will be advertised at least two weeks in advance of each event.

6. Comments

Federal, State, and local governments, Native Hawaiians, and the public are requested to send their written comments regarding environmental issues and the identification of reasonable alternatives related to the proposed action described in this notice through one of the following methods:

1. Federal eRulemaking Portal: http://www.regulations.gov. In the field entitled, “Enter Keyword or ID,” enter BOEM-2016-0049, and then click “search.” Follow the instructions to submit public comments and view supporting and related materials available for this notice; or

2. U.S. mail in an envelope labeled “Comments on Hawaii EA” and addressed to Regional Director, BOEM Pacific OCS Region, 760 Paseo Camarillo, Suite 102, Camarillo, California 93010. Comments must be postmarked by the last day of the comment period to be considered. This date is August 8, 2016.

Before including your address, phone number, email address, or other personal identifying information in your comment, you should be aware that your entire comment, including your personal identifying information, may be made publicly available at any time. While you can ask us in your comments to withhold your personal identifying information from public review, we cannot guarantee that we will be able to do so.

Authority: This Notice of Intent to prepare an EA is in compliance with NEPA, as amended (42 U.S.C. 4231 et seq.), and is published pursuant to 43 CFR 46.305.

Dated: June 16, 2016.
Abigail Ross Hopper,
Director, Bureau of Ocean Energy Management.

[FR Doc. 2016-14829 Filed 6-23-16; 8:45 am]

BILLING CODE 4310-MR-P